DEPARTMENT OF COMMERCE

National Oceanic and Atmospheric Administration

[I.D. 092100D]

Mid-Atlantic Fishery Management Council; Public Meetings

AGENCY: National Marine Fisheries Service (NMFS), National Oceanic and Atmospheric Administration (NOAA), Commerce.

ACTION: Notice of public meeting.

SUMMARY: The Mid-Atlantic Fishery Management Council (MAFMC) and its Comprehensive Management Committee, Executive Committee, Law Enforcement Committee, Demersal Committee, Squid-Mackerel-Butterfish Committee, and Habitat Committee will hold a public meeting.

DATES: The meetings will be held on Tuesday, October 10, 2000, to Thursday, October 12, 2000.

ADDRESSES: This meeting will be held at the Sanderling Inn Resort & Conference Center, 1461 Duck Road, Duck, NC; telephone: 252-449-6664.

Council address: Mid-Atlantic Fishery Management Council, 300 S. New Street, Dover, DE 19904; telephone: 302-674-2331.

FOR FURTHER INFORMATION CONTACT: Daniel T. Furlong, Executive Director, Mid-Atlantic Fishery Management Council; telephone: 302-674-2331, ext. 19.

SUPPLEMENTARY INFORMATION:

Tuesday, October 10, 2000

From 9 a.m. to 11 a.m.—the Comprehensive Management Committee will meet.

From 11 a.m. to noon—the Executive Committee will meet.

From 1 p.m. to 3 p.m.—the Law Enforcement Committee with the Advisory Panel will meet.

From 2 p.m. to 5 p.m.—the Demersal Committee will meet concurrently.

From 7 p.m. to 9 p.m.—there will be a public hearing for Draft Amendment 13 to the Summer Flounder, Scup, and Black Sea Bass Fishery Management Plan (FMP).

Wednesday, October 11, 2000

From 8 a.m. to 11 a.m.—the Squid-Mackerel-Butterfish Committee will meet.

From 9 a.m. to 11 a.m.—the Habitat Committee will meet concurrently.

11 a.m.—the Council will convene at 11:00 a.m. and depart for the U.S.Coast Guard Air Station at Elizabeth City, NC, for an overview of law enforcement operations for the remainder of the day.

Thursday, October 12, 2000

8 a.m.—the Council will convene and is scheduled to adjourn at 1 p.m.

Agenda items for this meeting are: Review and approve generic framework measure to authorize quota set aside for non Individual Transferable Quota MAFMC species, review and discuss quota set aside request for proposals; review state proposals for MAFMC funding, review annual work plan developed at Committee Chairmen’s meeting; review and evaluate Fishery Achievement Award nominations, review status of law enforcement (state/Federal) capabilities, develop committee strategy to review and comment on enforceability of Council’s FMPs and related management measures, review Magnuson-Stevens Act National Standard 10, i.e., safety concerns inherent in FMPs and related management measures; review Summer Flounder Working Group’s recommendations and develop committee’s position on proposed action, review Summer Flounder Workshop results and determine a recommended course of action; convene public hearing for Draft Amendment 13 to the Summer Flounder, Scup, Black Sea Bass FMP; finalize management measures for Amendment 9 to the Squid-Mackerel-Butterfish Plan, review proposed 2001 specifications for Atlantic mackerel, review and develop recommendations regarding Lithuanian Total Allowable Level of Foreign Fishing application, comment on action taken by Monitoring Committee regarding fall 2000 quota allocation; review NMFS Northeast Regional Office’s essential fish habitat General Concurrence with Philadelphia Army Corps of Engineers, address issues regarding New York harbor spoil disposal; hear organization and committee reports.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council’s intent to take final actions to address such emergencies.

Special Accommodations

This meeting is physically accessible to people with disabilities. Requests for sign language interpretation or other auxiliary aids should be directed to Joanna Davis at the MAFMC (see ADDRESSES) at least 5 days prior to the meeting date.

Dated: September 22, 2000.
Richard W. Surdi,
Acting Director, Office of Sustainable Fisheries, National Marine Fisheries Service.

[FR Doc. 00-24853 Filed 9-26-00; 8:45 am]

BILLING CODE 3510-22-S